DEPARTMENT OF TRANSPORTATION

Federal Aviation Administration

14 CFR Part 95

[Docket No. 30615; Amdt. No. 475]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, July 31, 2008.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on June 20, 2008.
James J. Ballough,
Director, Flight Standards Service.

Adoption of the Amendment

Accordingly, pursuant to the authority delegated to me by the Administrator, part 95 of the Federal Aviation Regulations (14 CFR part 95) is amended as follows effective at 0901 UTC, July 31, 2008.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
Amendment 475
Effective Date July 31, 2008
From/To | Total distance | Changeover distance | Point from | Track angle | MEA | MAA
§ 95.5000 Ground-Based High Altitude RNAV Routes is Amended to Delete
J888R |  |  |  |  |  |
Amott, AK RP | 107.0 | 75 | AMOTT | 245/065 TO COP | 28000 | 45000
Malos, AK WP |  |  |  | 244/064 TO MALOS |  |
Malos, AK WP | 59.0 | 32 | MALOS | 243/063 TO COP | 28000 | 45000
Mousy, AK WP |  |  |  | 241/061 TO MOUSY |  |
Mousy, AK WP | 196.0 |  |  |  | 28000 | 45000
Ozzie, AK WP |  |  |  | 230/050 TO OZZIE |  |
J996R
Cape Newenham, AK |  |  |  |  | 25000 | 45000
NDB/DME |  |  |  |  |  |
NERKA, AK WP |  |  |  |  |  |
NERKA, AK WP | 129.0 |  |  |  | 18000 | 45000
CARBU, AK WP |  |  |  | 047/227 TO CARBU |  |
CARBU, AK WP | 114.0 | 11 | CARBU | 047/227 TO COP | 18000 | 45000

FROM | TO | MEA
§ 95.1001 Direct Routes—U.S. Color Routes
§ 95.4 Green Federal Airway G2 is Amended To Read in Part
Borland, AK NDB/DME | Woody Island, AK NDB | *10000
*6600—MOCA
§ 95.6001 Victor Routes—U.S.
§ 95.6004 VOR Federal Airway V4
Kansas City, MO VORTAC | Lexin, MO FIX | 2600
Lexin, MO FIX | Hallsville, MO VORTAC | *6000
*3000—GNSS MEA
§ 95.6026 VOR Federal Airway V26 is Amended To Read in Part
Huron, SD VORTAC | Obitt, SD FIX | *5000
*4000—GNSS MEA
Obitt, SD FIX | Ghent, MN FIX | *6000
*4000—GNSS MEA
Ghent, MN FIX | Redwood Falls, MN VOR/DME | *5000
*4000—GNSS MEA
§ 95.6055 VOR Federal Airway V55 is Amended To Read in Part
Eau Claire, WI VORTAC | Siren, WI VOR/DME | *5000
*2800—MOCA
*3000—GNSS MEA
Siren, WI VOR/DME | Brainerd, MN VORTAC | *6000
*2800—MOCA
*3000—GNSS MEA
§ 95.6071 VOR Federal Airway V71 is Amended To Read in Part
Hot Springs, AR VOR/DME | Ollas, AR FIX | *3600
*3100—MOCA
Ollas, AR FIX | Haawk, AR FIX | *4500
*2500—MOCA
Haawk, AR FIX | Harrison, AR VOR/DME | *10000
*3700—MOCA
*4000—GNSS MEA
§ 95.6077 VOR Federal Airway V77 is Amended To Read in Part
Will Rogers, OK VORTAC | Castn, OK FIX | 3500
Castn, OK FIX | Wendy, OK FIX | 4000
Wendy, OK FIX | Pioneer, OK VORTAC | 2900
§ 95.6082 VOR Federal Airway V82 is Amended To Read in Part
Farmington, MN VORTAC | *Cordy, MN FIX | 3000
*4000—MRA
*Cordy, MN FIX | Rochester, MN VOR/DME | 3000
*4000—MRA
§ 95.6134 VOR Federal Airway V134 is Amended To Read in Part
Grand Junction, CO VORTAC | Paces, CO FIX | 11500
Paces, CO FIX | Slolm, CO FIX | 13000
Slolm, CO FIX | *Gleno, CO FIX | 14000
*16000—MRA | *Gleno, CO FIX | Red Table, CO VOR/DME | 14000
*16000—MRA
§ 95.6148 VOR Federal Airway V148 is Amended To Read in Part
Gopher, MN VORTAC | Aleen, WI FIX | *5000
*2700—MOCA
§ 95.6161 VOR Federal Airway V161 is Amended To Read in Part
Rochester, MN VOR/DME | *Cordy, MN FIX | 3000
*4000—MRA
*Cordy, MN FIX | Farmington, MN VORTAC | 3000
*4000—MRA
§ 95.6203 VOR Federal Airway V203 is Amended To Read in Part
Albany, NY VORTAC | Otole, NY FIX | *6000
*2200—MOCA
*3000—GNSS MEA
Otole, NY FIX | Dinny, NY FIX | *10000
*6900—MOCA
*7000—GNSS MEA
§ 95.6214 VOR Federal Airway V214 is Amended To Read in Part
Dupont, DE VORTAC | Yardley, PA VOR/DME | *6000
*3000—GNSS MEA
§ 95.6220 VOR Federal Airway V220 is Amended To Read in Part
Grand Junction, CO VORTAC | Paces, CO FIX | 11500
§ 95.6302 VOR Federal Airway V302 is Amended To Read in Part
Augusta, ME VOR/DME | Ancor, ME FIX | *5000
*3000—GNSS MEA
§ 95.6374 VOR Federal Airway V374 is Amended To Read in Part
Carmel, NY VOR/DME | Vollu, NY FIX | 2600
Vollu, NY FIX | Gayel, NY FIX | *5000
*3200—MOCA
Gayel, NY FIX | Binghamton, NY VORTAC | *10000
*6000—GNSS MEA
§ 95.6378 VOR Federal Airway V378 is Amended To Read in Part
Belay, MD FIX | Troyz, MD FIX | *9500
*4000—GNSS MEA
Troyz, MD FIX | Nuggy, PA FIX | *7500
*4000—GNSS MEA
Nuggy, PA FIX | Modena, PA VORTAC | *6000
*2000—MOCA
*4000—GNSS MEA
§ 95.6403 VOR Federal Airway V403 is Amended To Read in Part
Belay, MD FIX | Spery, PA FIX | *10000
*2100—MOCA
*3000—GNSS MEA
§ 95.6405 VOR Federal Airway V405 is Amended To Read in Part
Belay, MD FIX | Spery, PA FIX | *10000
*2100—MOCA
*3000—GNSS MEA
§ 95.6408 VOR Federal Airway V408 is Amended To Read in Part
Lake Henry, PA VORTAC | Prnce, NY FIX | 6000 MAA—15000
Prnce, NY FIX | Sages, NY FIX | 6400 MAA—15000
§ 95.6430 VOR Federal Airway V430 is Amended To Read in Part
Ironwood, MI VORTAC | Diner, MI FIX | *3500
*3400—MOCA
Diner, MI FIX | Iron Mountain, MI VOR/DME | *5000
*3500—MOCA
*4000—GNSS MEA
§ 95.6431 VOR Federal Airway V431 is Amended To Read in Part
Keene, NH VORTAC | Brats, VT FIX | *4400
*3600—MOCA
Glens Falls, NY VORTAC | Gassy, NY FIX | *10000
*6000—GNSS MEA
§ 95.6433 VOR Federal Airway V433 is Amended To Read in Part
Dupont, DE VORTAC | Yardley, PA VOR/DME | *6000
*3000—GNSS MEA
§ 95.6445 VOR Federal Airway V445 is Amended To Read in Part
Dupont, DE VORTAC | Yardley, PA VOR/DME | *6000
*3000—GNSS MEA
§ 95.6451 VOR Federal Airway V451 is Amended To Read in Part
Cream, NY FIX | Groton, CT VOR/DME | *6000
*4000—GNSS MEA
§ 95.6496 VOR Federal Airway V496 is Amended To Read in Part
Mallo, NY FIX | Glens Falls, NY VORTAC | *7000
*6000—GNSS MEA
Glens Falls, NY VORTAC | Kerst, VT FIX | *10000
*6000—GNSS MEA
§ 95.6591 VOR Federal Airway V591 is Amended To Read in Part
Grand Junction, CO VORTAC | Paces, CO FIX | 11500
Slolm, CO FIX | *Gleno, CO FIX | 14000
*16000—MRA
*Gleno, CO FIX | Snow, CO VOR/DME | 14000
*16000—MRA
§ 95.6531 Alaska VOR Federal Airway V531 is Amended To Read in Part
Huslia, AK VOR/DME | Atago, AK FIX |
| E BND | *3500
| W BND | *4000
*2500—MOCA
Atago, AK FIX | Desoy, AK FIX | 4000
Kotzebue, AK VOR/DME | Berjo, AK FIX |
| SE BND | *2500
| NW BND | *8000
*2500—MOCA

[FR Doc. E8-14543 Filed 6-26-08; 8:45 am]

BILLING CODE 4910-13-P